DEPARTMENT OF HEALTH AND HUMAN SERVICES

Centers for Disease Control and Prevention

National Institute for Occupational Safety and Health; The Board of Scientific Counselors Meeting (BSC), National Institute for Occupational Safety and Health (NIOSH), Centers for Disease Control and Prevention (CDC)

In accordance with section 10(a)(2) of the Federal Advisory Committee Act (Pub. L. 92-463), the Centers for Disease Control and Prevention announces the following meeting of the aforementioned committee:

Time and Date: 9 a.m.-3 p.m., May 10, 2007.

Place: Holiday Inn on the Hill, 415 New Jersey Avenue, NW., Washington, DC 20001.

Status: Open to the public, limited only by the space available. The meeting room accommodates approximately 50 people.

Purpose: The Secretary, the Assistant Secretary for Health, and by delegation, the Director, CDC, are authorized under Sections 301 and 308 of the Public Health Service Act to conduct directly or by grants or contracts, research, experiments, and demonstrations relating to occupational safety and health and to mine health. The BSC shall provide guidance to the Director, NIOSH, on research and prevention programs. Specifically, the Board shall provide guidance on the Institute's research activities related to developing and evaluating hypotheses, and systematically documenting findings and disseminating results. The Board shall evaluate the degree to which the activities of NIOSH: (1) Conform to appropriate scientific standards; (2) address current, relevant needs; and (3) produce intended results.

Matters to be Discussed: Agenda items include a report from the Director of NIOSH, Firefighter Fatality Investigation and Prevention Program review, Training Grant Program review, Noise-induced Hearing Loss Program review, and closing remarks.

Agenda items are subject to change as priorities dictate.

For Further Information Contact: Roger Rosa, Executive Secretary, BSC, NIOSH, CDC, 200 Independence Avenue, SW., Room 715H, Washington, DC 20201, telephone (202) 205-7856, fax (202) 260-4464.

The Director, Management Analysis and Services Office, has been delegated the authority to sign Federal Register notices pertaining to announcements of meetings and other committee management activities for both the Centers for Disease Control and Prevention and the Agency for Toxic Substances and Disease Registry.

Dated: March 20, 2007.
Elaine L. Baker,
Acting Director, Management Analysis and Services Office, Centers for Disease Control and Prevention.

[FR Doc. E7-5583 Filed 3-26-07; 8:45 am]

BILLING CODE 4163-18-P